DEPARTMENT OF HEALTH AND HUMAN SERVICES

National Institutes of Health

Center for Scientific Review; Amended Notice of Meeting

Notice is hereby given of a change in the meeting of the Center for Scientific Review Special Emphasis Panel, July 17, 2003, 8:30 am to July 18, 2003, 5 pm, The Fairmont Washington, DC., 2401 M Street, NW., Washington, DC 20037 which was published in the Federal Register on July 7, 2003, 68 FR 40278-40276.

The meeting will be three days July 16-18, 2003, from 7 pm to 5 pm. The location remains the same. The meeting is closed to the public.

Dated: July 8, 2003.
Anna Snouffer,
Acting Director, Office of Federal Advisory Committee Policy.

[FR Doc. 03-18367 Filed 7-18-03; 8:45 am]

BILLING CODE 4140-01-M